DEPARTMENT OF COMMERCE

Bureau of the Census

[Docket No. 040907254-4254-01]

Current Industrial Reports—MQ315A, Apparel

AGENCY: Bureau of the Census, Commerce.

ACTION: Notice and request for comments.

SUMMARY: The Bureau of the Census (Census Bureau) proposes to expand its Current Industrial Reports survey, MQ315A, Apparel, to include the production of socks. The survey currently provides estimates for a number of types of garments but does not include socks. Because of interest among some policymakers to measure the economic impact of imported socks on domestic producers, the Census Bureau anticipates appropriated funds being made available in its Fiscal Year 2005 budget for the collection of data on socks. If funds are made available, we will add socks to the survey for the 2004 reference year and manufacturers of socks will be asked to provide data on the quantity and value of socks they shipped, by fiber type and size category. If funds are not made available, we will not expand the survey to include producers of socks but will conduct the survey with its current definitions and coverage. We expect the survey mailing to occur at the end of December 2004.

DATES: Written comments on this notice must be submitted on or before November 12, 2004.

ADDRESSES: Direct all written comments to the Director, U.S. Census Bureau, Room 2049, Federal Building 3, Washington, DC 20233.

FOR FURTHER INFORMATION CONTACT: Judy M. Dodds, Assistant Division Chief, Census and Related Programs, Manufacturing and Construction Division, on (301) 763-4587 or by e-mail at judy.m.dodds@census.gov.

SUPPLEMENTARY INFORMATION: The Census Bureau is authorized to conduct surveys necessary to furnish current data on subjects covered by the major censuses authorized by Title 13, United States Code (U.S.C.), Section 182. Data collected in the MQ315A survey is within the general scope, type, and character of inquiries covered in the Economic Census authorized by Title 13, U.S.C., Section 131. The Census Bureau is also authorized to collect and publish quarterly statistics relating to domestic apparel and textile industries (Title 13, U.S.C., Section 81). The MQ315A is conducted quarterly but has an annual mailing which normally collects information from small producers. For survey 2004 we would include all producers of socks in this annual supplement to the quarterly survey.

Published estimates from the MQ315A, Apparel, are used by a variety of private business and trade associations. They are a major source of information about industries that may be impacted by foreign trade. At the present time, manufacturers of socks are not included in the MQ315A survey. This one-time expansion of MQ315A to include socks will result in quantity and value data for policymakers studying the industry.

Taking into consideration any comments we receive, we will make the decision whether or not to expand the survey for 2004 based on our budget status at the time of the survey mailing in December. As stated previously, if funds are not available and we decide not to expand the survey, we will conduct the annual supplemental mailing of the MQ315A, Apparel, with its existing OMB approval using the current definitions and industry coverage.

Paperwork Reduction Act

Notwithstanding any other provision of law, no person is required to respond to, nor shall a person be subject to a penalty for failure to comply with, a collection of information subject to requirements of the Paperwork Reduction Act (PRA), unless that collection of information displays a current valid Office of Management and Budget (OMB) control number. In accordance with the PRA, 44 U.S.C., Chapter 35, the OMB approved the Current industrial Reports—“MQ315A, Apparel”, under OMB Control Number 0607-0395. The total burden hours associated with OMB Control Number 0607-0395 are 14,956 hours. We will provide copies of each form upon written request to the Director, U.S. Census Bureau, Washington, DC 20233-0001.

Dated: October 5, 2004.
Charles Louis Kincannon,
Director, Bureau of the Census.

[FR Doc. 04-22854 Filed 10-8-04; 8:45 am]

BILLING CODE 3510-07-P